SMALL BUSINESS ADMINISTRATION

Dealer Floor Plan Pilot Initiative

AGENCY: U.S. Small Business Administration (SBA).

ACTION: Notice of re-opening of comment period.

SUMMARY: On July 6, 2009, SBA published a notice in the Federal Register creating a new pilot loan initiative called the Dealer Floor Plan Pilot Initiative. This pilot initiative gives SBA the ability to offer 7(a) guaranties to participating lenders on floor plan lines of credit when structured under SBA requirements from July 1, 2009 through September 30, 2010. The Agency provided for a 30-day comment period when it published the Notice. This comment period closed August 5, 2009. SBA is re-opening the comment period for an additional 45 days.

DATES: Comments must be received on or before October 26, 2009.

ADDRESSES: You may submit comments, identified by SBA docket number SBA-2009-0009, by any of the following methods:

Federal eRulemaking Portal: http://www.regulations.gov. Follow the instructions for submitting comments.

Mail: Dealer Floor Plan Pilot Initiative Comments—Office of Financial Assistance, U.S. Small Business Administration, 409 Third Street, SW., Suite 8300, Washington, DC 20416.

Hand Delivery/Courier: Grady Hedgespeth, Director, Office of Financial Assistance, U.S. Small Business Administration, 409 Third Street, SW., Suite 8300, Washington, DC 20416.

SBA will post all comments on http://www.regulations.gov. If you wish to submit confidential business information (CBI) as defined in the User Notice at http://www.regulations.gov, please submit the information to Grady Hedgespeth, Director, Office of Financial Assistance, U.S. Small Business Administration, 409 Third Street, SW., Suite 8300, Washington, DC 20416, or send an e-mail to dealerfloorplancomments@sba.gov. Highlight the information that you consider to be CBI and explain why you believe SBA should hold this information as confidential. SBA will review the information and make the final determination whether it will publish the information.

FOR FURTHER INFORMATION CONTACT: Sloan Coleman, Office of Financial Assistance, U.S. Small Business Administration, 409 Third Street, SW., Suite 8300, Washington, DC 20416; (202) 205-7737; w.coleman@sba.gov.

SUPPLEMENTARY INFORMATION: On July 6, 2009, SBA published a notice in the Federal Register announcing the creation of the Dealer Floor Plan Pilot Initiative. (74 FR 32006) The announcement of this pilot initiative generated a significant level of interest among those small businesses and lenders that traditionally utilize floor plan financing. Given the scope of the proposal and the nature of the issues raised by the comments received to date, SBA believes that affected parties need more time to review the proposal and prepare their comments. As a result, SBA is re-opening the comment period for an additional 45 days.

Questions on the Dealer Floor Plan Pilot Initiative may be directed to the Lender Relations Specialist in the local SBA district office.

The local SBA district office may be found at http://www.sba.gov/localresources/index.html.

Authority: 15 U.S.C. 636(a)(25) and 13 CFR 120.3.

Walter C. Intlekofer,
Acting Director, Office of Financial Assistance.

[FR Doc. E9-21891 Filed 9-9-09; 8:45 am]

BILLING CODE 8025-01-P